DEPARTMENT OF JUSTICE

Notice of Lodging of Proposed Consent Decree Under the Clean Air Act

On February 19, 2019, the Department of Justice lodged a proposed Consent Decree with the United States District Court for the Western District of Washington in the lawsuit entitled United States v. Trident Seafoods Corp., Royal Viking Inc., Golden Dawn, LLC, Civil Action No. 2:19-cv-00231.

The United States, on behalf of the United States Environmental Protection Agency (“EPA”), filed a complaint against Trident Seafoods Corp., Royal Viking Inc., and Golden Dawn, LLC (collectively, “Trident”), seeking injunctive relief and the imposition of civil penalties for violations of the Clean Air Act in connection with the Companies' use of ozone-depleting refrigerants on board vessels and at seafood processing facilities in Alaska and the Pacific Northwest. The Consent Decree requires Trident to retrofit or retire a number of refrigeration appliances, implement comprehensive refrigerant management practices, cap refrigerant losses, and employ a third-party auditor, as well as pay a civil penalty of $900,000 and perform a Supplemental Environmental Project.

The publication of this notice opens a period for public comment on the Consent Decree. Comments should be addressed to the Assistant Attorney General, Environment and Natural Resources Division, and should refer to United States v. Trident Seafoods Corp., Royal Viking Inc., Golden Dawn, LLC, Civil Action No. 2:19-cv-00231. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $38.00 (25 cents per page reproduction cost) payable to the United States Treasury. For a paper copy without the exhibits and signature pages, the cost is $19.00.

Susan M. Akers,
Assistant Section Chief, Environmental Enforcement Section, Environment and Natural Resources Division.

[FR Doc. 2019-03110 Filed 2-21-19; 8:45 am]

BILLING CODE 4410-15-P